DEPARTMENT OF AGRICULTURE

Agricultural Marketing Service

7 CFR Part 946

[Docket No. FV00-946-1 IFR]

Irish Potatoes Grown in Washington; Exemption From Handling and Assessment Regulations for Potatoes Shipped for Experimental Purposes

Correction

In rule document 00-29944 beginning on page 70461 in the issue of Friday, November 24, 2000, make the following correction:

§946.336 [Corrected]

On page 70463, in the third column, in §946.336, in the seventh line from the bottom, paragraph “(a)” should read “(e)”.

[FR Doc. C0-29944 Filed 11-28-00; 8:45 am]

BILLING CODE 1505-01-D